DEPARTMENT OF ENERGY

Federal Energy Regulatory Commission

Combined Notice of Filings #1

Take notice that the Commission received the following electric corporate filings:

Docket Numbers: EC16-28-000.

Applicants: Sagebrush, a California partnership.

Description: Application for Authorization for Disposition of Jurisdictional Facilities, Request for Confidential Treatment, and Request for Expedited Action of Sagebrush, a California partnership, et al.

Filed Date: 11/5/15.

Accession Number: 20151105-5234.

Comments Due: 5 p.m. ET 11/27/15.

Take notice that the Commission received the following electric rate filings:

Docket Numbers: ER14-2619-003.

Applicants: Illinois Power Marketing Company.

Description: Compliance filing: Compliance Unexecuted Revised Amended and Restated SSR Agreement to be effective 8/14/2014.

Filed Date: 11/6/15.

Accession Number: 20151106-5093.

Comments Due: 5 p.m. ET 11/27/15.

Docket Numbers: ER15-948-002.

Applicants: Illinois Power Marketing Company.

Description: Compliance filing: Compliance Unexecuted Revised Amended and Restated SSR Agreement to be effective 1/1/2015.

Filed Date: 11/6/15.

Accession Number: 20151106-5096.

Comments Due: 5 p.m. ET 11/27/15.

Docket Numbers: ER16-271-000.

Applicants: PJM Interconnection, L.L.C., American Transmission Systems, Incorporated, Trans-Allegheny Interstate Line Company, Pennsylvania Electric Company, Monongahela Power Company.

Description: § 205(d) Rate Filing: ATSI et al submits 6 service agreement nos. 3992, 3994, 3995, 4292, 4293, 4294 to be effective 1/5/2016.

Filed Date: 11/5/15.

Accession Number: 20151105-5198.

Comments Due: 5 p.m. ET 11/27/15.

Docket Numbers: ER16-272-000.

Applicants: Central Maine Power Company.

Description: § 205(d) Rate Filing: Supplement No. 3 to CMP FERC Electric Rate Schedule No. 60 to be effective 1/5/2016.

Filed Date: 11/5/15.

Accession Number: 20151105-5200.

Comments Due: 5 p.m. ET 11/27/15.

Docket Numbers: ER16-273-000.

Applicants: ISO New England Inc., Emera Maine.

Description: § 205(d) Rate Filing: Correction to ISO New England Tariff Schedule 21-EM to be effective 6/1/2015.

Filed Date: 11/6/15.

Accession Number: 20151106-5031.

Comments Due: 5 p.m. ET 11/27/15.

Docket Numbers: ER16-274-000.

Applicants: Louisville Gas and Electric Company.

Description: § 205(d) Rate Filing: OMU Amd and Rstd IA Rate Sched No 505 to be effective 1/6/2016.

Filed Date: 11/6/15.

Accession Number: 20151106-5048.

Comments Due: 5 p.m. ET 11/27/15.

Docket Numbers: ER16-275-000.

Applicants: Kentucky Utilities Company.

Description: § 205(d) Rate Filing: KU Concurrence to OMU Amd and Rstd Rate Sched 505 to be effective 1/6/2016.

Filed Date: 11/6/15.

Accession Number: 20151106-5065.

Comments Due: 5 p.m. ET 11/27/15.

Docket Numbers: ER16-276-000.

Applicants: Freepoint Commodities LLC.

Description: § 205(d) Rate Filing: Revised MBR Tariff re 784 & SPP to be effective 11/7/2015.

Filed Date: 11/6/15.

Accession Number: 20151106-5069.

Comments Due: 5 p.m. ET 11/27/15.

Docket Numbers: ER16-277-000.

Applicants: Talen Energy Marketing, LLC.

Description: § 205(d) Rate Filing: Reactive Supply and Voltage Control from Generation Sources Service to be effective 12/31/9998.

Filed Date: 11/6/15.

Accession Number: 20151106-5070.

Comments Due: 5 p.m. ET 11/27/15.

Docket Numbers: ER16-278-000.

Applicants: PJM Interconnection, L.L.C.

Description: § 205(d) Rate Filing: Service Agreement No. 4288; Queue No. AA1-112 to be effective 10/13/2015.

Filed Date: 11/6/15.

Accession Number: 20151106-5071.

Comments Due: 5 p.m. ET 11/27/15.

Docket Numbers: ER16-279-000.

Applicants: Southwest Power Pool, Inc.

Description: § 205(d) Rate Filing: Ministerial Filing to Correct Attachment AE Table of Contents to be effective 3/1/2014.

Filed Date: 11/6/15..

Accession Number: 20151106-5077

Comments Due: 5 p.m. ET 11/27/15.

Docket Numbers: ER16-280-000.

Applicants: Arizona Public Service Company.

Description: § 205(d) Rate Filing: Rate Schedule No. 244—Amendment 7 to be effective 1/6/2016.

Filed Date: 11/6/15.

Accession Number: 20151106-5079.

Comments Due: 5 p.m. ET 11/27/15.

Docket Numbers: ER16-281-000.

Applicants: Arizona Public Service Company.

Description: § 205(d) Rate Filing: Rate Schedule No. 217 Exhibit B.MEX to be effective 1/6/2016.

Filed Date: 11/6/15.

Accession Number: 20151106-5092.

Comments Due: 5 p.m. ET 11/27/15.

Docket Numbers: ER16-282-000.

Applicants: Arizona Public Service Company.

Description: § 205(d) Rate Filing: Rate Schedule No. 251—Amendment 3 to be effective 1/6/2016.

Filed Date: 11/6/15.

Accession Number: 20151106-5100.

Comments Due: 5 p.m. ET 11/27/15.

Docket Numbers: ER16-283-000.

Applicants: Arizona Public Service Company.

Description: § 205(d) Rate Filing: Rate Schedule No. 273—Amendment 1 to be effective 1/6/2016.

Filed Date: 11/6/15.

Accession Number: 20151106-5101.

Comments Due: 5 p.m. ET 11/27/15.

Docket Numbers: ER16-284-000.

Applicants: Arizona Public Service Company.

Description: § 205(d) Rate Filing: Rate Schedule No. 33—Exhibit A Revision 50 to be effective 1/6/2016.

Filed Date: 11/6/15.

Accession Number: 20151106-5108.

Comments Due: 5 p.m. ET 11/27/15.

Docket Numbers: ER16-285-000.

Applicants: NorthWestern Corporation.

Description: § 205(d) Rate Filing: Revised Point-to-Point TSAs with Talen (SA 557 2nd Rev, 749 & 750) to be effective 11/9/2015.

Filed Date: 11/6/15.

Accession Number: 20151106-5120.

Comments Due: 5 p.m. ET 11/27/15.

Docket Numbers: ER16-286-000.

Applicants: ISO New England Inc., New England Power Pool Participants Committee.

Description: § 205(d) Rate Filing: Revisions to ISO-NE Tariff Related to Hourly Requirements under the FAP to be effective 1/8/2016.

Filed Date: 11/6/15.

Accession Number: 20151106-5135.

Comments Due: 5 p.m. ET 11/27/15.

Take notice that the Commission received the following electric securities filings:

Docket Numbers: ES16-3-000.

Applicants: PacifiCorp.

Description: Revised Exhibits C, D and E to October 16, 2015 Application for Authorization to issue and sell up to $1.5 billion of promissory notes or other evidences of unsecured short-term indebtedness of PacifiCorp.

Filed Date: 11/6/15.

Accession Number: 20151106-5025.

Comments Due: 5 p.m. ET 11/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2015.
Nathaniel J. Davis, Sr.,
Deputy Secretary.

[FR Doc. 2015-29143 Filed 11-13-15; 8:45 am]

BILLING CODE 6717-01-P